DEPARTMENT OF VETERANS AFFAIRS

[OMB Control No. 2900-NEW]

Proposed Information Collection: Evaluation of the Department of Veterans Affairs Mental Health Services

Activity: Comment Request.

AGENCY: Veterans Health Administration, Department of Veterans Affairs.

ACTION: Notice.

SUMMARY: The Veterans Health Administration (VHA), Department of Veterans Affairs (VA), is announcing an opportunity for public comment on the proposed collection of certain information by the agency. Under the Paperwork Reduction Act (PRA) of 1995, Federal agencies are required to publish notice in the Federal Register concerning each proposed collection of information and allow 60 days for public comment in response to the notice. This notice solicits comments on the information needed for Veterans, Veteran Representatives and health care providers to request reimbursement from the federal government for emergency services at a private institution.

DATES: Written comments and recommendations on the proposed collection of information should be received on or before September 21, 2015.

ADDRESSES: Submit written comments on the collection of information through Federal Docket Management System (FDMS) at www.Regulations.gov; or Audrey Revere, Office of Regulatory and Administrative Affairs, Veterans Health Administration (10B4), Department of Veterans Affairs, 810 Vermont Avenue NW., Washington, DC 20420 or email: Audrey.revere@va.gov. Please refer to “Evaluation of the Department of Veterans Affairs Mental Health Services, OMB Control No. 2900-NEW” in any correspondence. During the comment period, comments may be viewed online through the FDMS.

FOR FURTHER INFORMATION CONTACT: Audrey Revere at (202) 461-5694.

SUPPLEMENTARY INFORMATION: Under the PRA of 1995 (Pub. La. 104-13; 44 U.S.C. 3501-3521), Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Titles: Evaluation of the Department of Veterans Affairs Mental Health Services.

OMB Control Number: 2900-NEW.

Type of Review: New Collection Request.

Abstract: This is a congressionally-mandated research study to evaluate mental health services provided by the Department of Veteran Affairs (VA). Congress directed the VA to conduct a survey of veterans with assistance from the Institute of Medicine (IOM) of the National Academies. Attachment 1 contains the authorizing legislation, the National Defense Authorization Act for Fiscal Year 2013, Section 726.

Following the large number of deployments and operations in Iraq and Afghanistan, the number of military members with mental health problems has been rising. All Veterans who need mental health services do not seek them it or receive them from the Department of Veterans Affairs (VA) health care system. This study is to assess barriers to receiving mental health care services among veterans.

Affected Public: Individuals or Households.

Estimated Annual Burden: 5,192 burden hours.

Estimated Average Burden per Respondent: 35 minutes.

Frequency of Response: Annually.

Estimated Number of Respondents: 8,900.

By direction of the Secretary.
Kathleen M. Manwell,
VA Privacy Service, Office of Privacy and Records Management, Department of Veterans Affairs.

[FR Doc. 2015-17791 Filed 7-20-15; 8:45 am]

BILLING CODE 8320-01-P